DEPARTMENT OF THE INTERIOR

Bureau of Land Management

[ID-076-4610-00]

Proposed Area of Critical Environmental Concern; Correction

AGENCY: Bureau of Land Management, Interior.

ACTION: Notice of correction.

SUMMARY: On June 28, 2002, the Bureau of Land Management published a notice in the Federal Register (67 FR 43680) concerning proposed Area of Critical Environmental Concern Designations (ACEC) in Idaho. The notice contained an incorrect date for when the public comment period begins. The correct date is June 28, 2002.

FOR FURTHER INFORMATION CONTACT: Bill Baker, Field Manager, Shoshone Field Office, (208) 732-7286.

Correction

In the Federal Register of June 28, 2002 on page 43680 in the third column correct the DATES caption to read:

DATES: The public comment period on the proposed ACEC designations begins on June 28, 2002. Written comments on the Shoshone Land Use Plans Draft Amendments/EA must be submitted or postmarked no later than August 27, 2002. Comments, including the names and street addresses of respondents, will be available for public review at the address listed below during regular business hours (7:45 a.m. to 4:30 p.m.), Monday through Friday, except holidays. Individual respondents may request confidentiality. If you wish to withhold your name or street address from public review or from disclosure under the Freedom of Information Act, you must state this prominently at the beginning of your written comment. Such requests will be honored to the extent allowed by law. All submissions from organizations or businesses, and from individuals identifying themselves as representatives or officials of organizations or businesses, will be made available for public inspection in their entirety.

Meetings will be held to receive public comments on the Draft Amendments/EA; the dates, times, and locations of these public meetings will be announced locally through public mailings and area media.

Dated: June 28, 2002.
Michael Schwartz,
Group Manager, Regulatory Affairs.

[FR Doc. 02-16829 Filed 7-1-02; 1:21 pm]

BILLING CODE 4310-84-P